DEPARTMENT OF LABOR

Office of the Secretary

Submission for OMB Review: Comment Request

May 25, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Notification of Methane Detected in Mine Atmosphere.

OMB Number: 1219-0103.

Frequency: On occasion and weekly.

Type of Response: Recordkeeping and Reporting.

Affected Public: Business or other for-profit.

Number of Respondents: 8.

Collection of information | Estimated number of annual responses | Average response time | Estimated annual burden hours
Notifying MSHA | 1 | 0.25 | 0.25
Weekly Certification Record | 416 | 0.08 | 34.5
Informing affected persons when a hazardous condition occurs | 8 | 0.17 | 1.3
Total | 425 |  | 36

Total Annualized Capital/Startup Costs: $0.

Total Annual Costs (operating/maintaining systems or purchasing services): $0.

Description: Sections 103(c), (I), and (j) of the Federal Mine Safety and Health Act of 1977 authorizes the inspection, recordkeeping and reporting requirements implemented in 30 CFR part 57, Subpart T—Safety Standards for Methane in Metal and Nonmetal mines. Methane is a flammable gas found in underground mining. Methane is a colorless, odorless, tasteless gas, and it tends to rise to the roof of a mine because it is lighter than air. Although methane itself is nontoxic, its presence reduces oxygen content by dilution when mixed with air, and consequently can act as an asphyxiant when present in large quantities. Methane mixed with air is explosive in the range of 5 to 15 percent, provided that 12 percent or more oxygen is present. The presence of dust containing volatile matter in the mine atmosphere may further enhance the explosion potential of methane in a mine.

Metal and Nonmetal mine operators are required to notify MSHA as soon as possible if any of the following events occur: (a) There is an outburst that results in 0.25 percent or more methane in the mine atmosphere; (b) there is a blowout that results in 0.25 percent or more methane in the mine atmosphere; (c) there is an ignition of methane; (d) air sample results indicate 0.25 percent or more methane in the mine atmosphere of a Subcategory I-B, I-C, II-B, V-B, or Category VI mine. If methane reaches 2.0 percent in a Category IV mine; or methane reaches 0.25 percent in the mine atmosphere of a Subcategory I-B, II-B, V-B, and VI mines, MSHA shall be notified immediately so that it can determine if further action is necessary. Additionally, MSHA investigates these occurrences to determine that the mine is placed in the proper category.

Agency: Mine Safety and Health Administration.

Type of Review: Extension of currently approved collection.

Title: Safety Standards for Roof Bolts in Metal and Nonmetal Mines and Underground Coal Mines.

OMB Number: 1219-0121.

Frequency: On occasion.

Type of Response: Recordkeeping.

Affected Public: Business or other for-profit.

Collection of information | Number of respondents | Estimated annual responses | Average response time (hours) | Estimated annual burden hours
Metal/Nonmetal Surface | 20 | 40 | 0.05 | 2
Metal/Nonmetal Underground | 200 | 800 | 0.05 | 40
Underground Coal | 634 | 2,536 | 0.05 | 127
Total | 854 | 3,376 |  | 169

Total Annualized Capital/Startup Costs: $0.

Total Annual Costs (operating/maintaining systems or purchasing services): $0.

Description: 30 CFR part 56/57.3203 and 75.204 address the quality of rock fixtures and their installation. Roof and rock bolts and accessories are an integral part of ground control systems and are used to prevent the fall of roof, face, and ribs. These standards require that metal and nonmetal and coal mine operators obtain a certification from the manufacturer that rock bolts and accessories are manufactured and tested in accordance with the 1995 American Society for Testing and Materials (ASTM) publication “Standard Specification for Roof and Rock Bolts and Accessories” (ASTM F432-95).

The manufacturer's certification assures mine operators that the material they use meets technical requirements established to promote safety and eliminates the concern that mine operators need to have the same engineering knowledge of the ASTM standard as manufacturers. The certifications also are made available to an Authorized Representative of the Secretary to attest to the appropriate testing and manufacture of the rock bolts and accessories.

Darrin A. King,
Acting Departmental Clearance Officer.

[FR Doc. E6-8457 Filed 5-31-06; 8:45 am]

BILLING CODE 4510-43-P